DEPARTMENT OF COMMERCE

International Trade Administration

[A-570-835]

Furfuryl Alcohol From the People's Republic of China: Final Results of Antidumping Duty Administrative Review; 2014-2015

AGENCY: Enforcement and Compliance, International Trade Administration, Department of Commerce.

SUMMARY: On March 11, 2016, the Department of Commerce (the “Department”) published in the Federal Register the preliminary results of the administrative review of the antidumping duty order on furfuryl alcohol from the People's Republic of China (“PRC”) covering the period of review (“POR”) June 1, 2014, through May 31, 2015.¹ This review covers one company, Qingdao WenKem Co., Ltd.² The Department conducted this administrative review in accordance with section 751(a) of the Tariff Act of 1930, as amended (“the Act”). The Department gave interested parties an opportunity to comment on the Preliminary Results, but we received no comments. Hence, these final results are unchanged from the Preliminary Results.

¹ See Furfuryl Alcohol From the People's Republic of China: Preliminary Results of Antidumping Duty Administrative Review; 2014-2015, 81 FR 12876 (March 11, 2016) (“Preliminary Results”).

² Id.

DATES: Effective Date: June 8, 2016.

FOR FURTHER INFORMATION CONTACT: Mandy Mallott, AD/CVD Operations, Office III, Enforcement and Compliance, International Trade Administration, U.S. Department of Commerce, 14th Street and Constitution Avenue NW., Washington, DC 20230; telephone: (202) 482-6430.

SUPPLEMENTARY INFORMATION:

Background

On March 11, 2016, the Department published the Preliminary Results of the instant review, preliminarily finding Qingdao WenKem Co., Ltd. to be a part of the PRC-wide entity.³ We invited interested parties to comment on the Preliminary Results.⁴ We received no comments from interested parties.

³ See Preliminary Results, at 12877.

⁴ Id.

The Department conducted this review in accordance with section 751(a)(1)(B) of the Tariff Act of 1930, as amended (“the Act”).

Scope of the Order

The merchandise covered by this order is furfuryl alcohol (C4H3OCH2OH). Furfuryl alcohol is a primary alcohol, and is colorless or pale yellow in appearance. It is used in the manufacture of resins and as a wetting agent and solvent for coating resins, nitrocellulose, cellulose acetate, and other soluble dyes. The product subject to this order is classifiable under subheading 2932.13.00 of the Harmonized Tariff Schedule of the United States (“HTSUS”). Although the HTSUS subheading is provided for convenience and customs purposes, our written description of the scope is dispositive.

Final Results of Review

As a result of our review, we determine that the following dumping margin on furfuryl alcohol from the PRC exists for Qingdao WenKem Co., Ltd., determined to be a part of the PRC-wide entity,⁵ for the period June 1, 2014, through May 31, 2015:

⁵ Id.

Exporter | Weighted-average dumping margin (percent)
PRC-Wide Entity | 45.27

Assessment Rates

We will instruct U.S. Customs and Border Protection (“CBP”) to apply an ad valorem assessment rate of 45.27 percent to all entries of subject merchandise during the POR which were produced and/or exported by Qingdao WenKem Co., Ltd. The Department intends to issue assessment instructions to CBP 15 days after the date of publication of these final results of review.

Cash Deposit Requirements

The following cash deposit requirements will be effective upon publication of the final results of this administrative review for all shipments of the subject merchandise entered, or withdrawn from warehouse, for consumption on or after the publication date, as provided for by section 751(a)(2)(C) of the Act: (1) The cash deposit rate for Qingdao WenKem Co., Ltd., as part of the PRC-wide entity, will be the PRC-wide rate of 45.27 percent; (2) for previously investigated or reviewed PRC and non-PRC exporters who are not under review in this segment of the proceeding but who have separate rates, the cash deposit rate will continue to be the exporter-specific rate published for the most recent period; (3) for all PRC exporters of subject merchandise that have not been found to be entitled to a separate rate, the cash deposit rate will be the PRC-wide rate of 45.27 percent; and (4) for all non-PRC exporters of subject merchandise which have not received their own rate, the cash deposit rate will be the rate applicable to the PRC exporter(s) that supplied that non-PRC exporter. These deposit requirements, when imposed, shall remain in effect until further notice.

Notification to Importers

This notice also serves as a final reminder to importers of their responsibility under 19 CFR 351.402(f)(2) to file a certificate regarding the reimbursement off antidumping duties prior to liquidation of the relevant entries during this period. Failure to comply with this requirement could result in the Secretary's presumption that reimbursement of antidumping duties occurred and the subsequent assessment of double antidumping duties.

Notification to Interested Parties

This notice also serves as a reminder to parties subject to administrative protective orders (“APO”) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing these results in accordance with sections 751(a)(1) and 777(i) of the Act.

Dated: May 31, 2016.
Paul Piquado,
Assistant Secretary for Enforcement and Compliance.

[FR Doc. 2016-13576 Filed 6-7-16; 8:45 am]

BILLING CODE 3510-DS-P